NUCLEAR REGULATORY COMMISSION

[NRC-2012-0002]

Sunshine Act Meeting

AGENCY HOLDING THE MEETINGS: Nuclear Regulatory Commission; [NRC-2012-0002].

DATES: Weeks of June 4, 11, 18, 25, July 2, 9, 2012.

PLACE: Commissioners' Conference Room, 11555 Rockville Pike, Rockville, Maryland.

STATUS: Public and closed.

Week of June 4, 2012

Thursday, June 7, 2012

9:25 a.m. Affirmation Session (Public Meeting) (Tentative)

a. Virginia Electric and Power Company d/b/a Dominion Virginia Power and Old Dominion Electric Cooperative (Combined License Application for North Anna Unit 3); Dominion's Petition for Review of LBP-11-22) (Tentative)

b. Entergy Nuclear Generation Co. and Entergy Nuclear Operations, Inc. (Pilgrim Nuclear Power Station), Docket No. 50-293-LR (Tentative)

c. Final Rule: 10 CFR 73.37, “Physical Protection of Irradiated Fuel in Transit” (RIN 3150-AI64) (Tentative)

d. Pacific Gas and Electric Company (Diablo Canyon Nuclear Power Plant, Units 1 and 2), Referred Ruling in LBP-11-32 (Nov. 18, 2011); San Luis Obispo Mothers for Peace's Petition for Partial Interlocutory Review of LBP-11-32 (Dec. 5, 2011) (Tentative)

This meeting will be webcast live at the Web address— www.nrc.gov.

9:30 a.m. Meeting with the Advisory Committee on Reactor Safeguards (ACRS) (Public Meeting) (Contact: Tanny Santos, 301-415-7270)

This meeting will be webcast live at the Web address— www.nrc.gov.

Week of June 11, 2012—Tentative

Friday, June 15, 2012

9:30 a.m. Joint Meeting of the Federal Energy Regulatory Commission (FERC) and the Nuclear Regulatory Commission (NRC) on Grid Reliability (Public Meeting) To be held at FERC Headquarters, 888 First Street NE., Washington, DC. (Contact: Jim Andersen, 301-415-3565)

This meeting will be webcast live at the Web address— www.ferc.gov.

Week of June 18, 2012—Tentative

There are no meetings scheduled for the week of June 18, 2012.

Week of June 25, 2012—Tentative

There are no meetings scheduled for the week of June 25, 2012.

Week of July 2, 2012—Tentative

There are no meetings scheduled for the week of July 2, 2012.

Week of July 9, 2012—Tentative

Tuesday, July 10, 2012

9:30 a.m. Strategic Programmatic Overview of the Operating Reactors Business Line (Public Meeting) (Contact: Trent Wertz, 301-415-1568)

This meeting will be webcast live at the Web address— www.nrc.gov.

* * * * *

* The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: May 31, 2012.
Rochelle C. Bavol,
Policy Coordinator, Office of the Secretary.

[FR Doc. 2012-13680 Filed 6-1-12; 4:15 pm]

BILLING CODE 7590-01-P